DEPARTMENT OF ENERGY

National Coal Council

AGENCY: Department of Energy.

ACTION: Notice of open meetings.

SUMMARY: This notice announces two meetings of the National Coal Council (NCC). The Federal Advisory Committee Act (Pub. L. 92-463, 86 Stat. 770) requires that public notice of these meetings be announced in the Federal Register.

DATES: Thursday, May 16, 2013, 4:00 p.m. to 5:00 p.m. Friday, May 17, 2013, 9:00 a.m. to 12:00 p.m.

ADDRESSES: Fairmont Hotel, 2401 M Street NW., Washington, DC 20037.

FOR FURTHER INFORMATION CONTACT: Dr. Robert J. Wright, U.S. Department of Energy, 4G-036/Forrestal Building, 1000 Independence Avenue SW., Washington, DC 20585-1290; Telephone: 202-586-0429.

SUPPLEMENTARY INFORMATION: Purpose of Meeting: To conduct normal Council business and receive presentations:

Agenda for Thursday, May 16, 2013

1. Call to Order by John Eaves, Chairman, National Coal Council

2. Council Business

a. Acceptance of the 2012 Council Audit Report

b. Action on updating the Council by-laws

c. Report on possible legislative amendments to the Federal Advisory Committee Act (FACA)

d. Staff Change Announcement

3. Other business

4. Adjourn

Agenda for Friday, May 17, 2013

1. Call to order and opening remarks by John Eaves, Chairman, National Coal Council,

2. Remarks by Chris Smith, Acting Assistant Secretary for Fossil Energy, Department of Energy

3. Presentation of summary of recent Council studies by Fred Palmer, Chair, Coal Policy Committee

4. Presentation by General Keith Alexander on “Cyber Security in the U.S.” (invited)

5. Presentation by Don Newell (KY Department for Natural Resources) and Fred Moore (Nuclear Alliance) on nuclear-enhanced coal-to-liquid fuels production

6. Council Business:

a. Communications Committee report by Chair David Surber

b. Finance report by Finance Committee Chair Greg Workman

7. Other business

8. Adjourn

Public Participation: The meeting is open to the public. If you would like to file a written statement with the Council, you may do so either before or after the meeting. If you would like to make oral statements regarding any item on the agenda, you should contact Dr. Robert J. Wright, 202-586-0429 or robert.wright@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: Within 45 days, a complete transcript of both meetings will be posted on the NCC's Web site at: http://www.nationalcoalcouncil.org/.

Issued at Washington, DC on April 12, 2013.
LaTanya R. Butler,
Deputy Committee Management Officer.

[FR Doc. 2013-09129 Filed 4-17-13; 8:45 am]

BILLING CODE 6450-01-P